DEPARTMENT OF JUSTICE

Notice of Lodging of Consent Decree Under the Clean Air Act

Notice is hereby given that on November 1, 2011, a proposed Consent Decree in United States v. Williams Four Corners, LLC, Civil Action 1:11-cv-02846, was lodged with the United States District Court for the District of Colorado.

In this action the United States seeks civil penalties and injunctive relief for alleged violations of the Clean Air Act (“CAA”), 42 U.S.C. 7401 et seq., at Four Corner's Ignacio Gas Plant (“Ignacio GP”) and Ute E Compressor Station (“Ute E”) located in La Plata County, Colorado, and situated within the exterior boundaries of the Southern Ute Indian Reservation. County, Utah. Specifically, the United States alleges that Four Corners failed to timely repair four leaks at its Ignacio GP in violation of the New Source Performance Standard at 40 CFR part 60, Subpart KKK, implementing Section 111 of the Clean Air Act (“CAA”), 42 U.S.C. 741, and violated Title V of the CAA and 40 CFR part 71 by failing to apply for a federal operating permit for the Ute E Compressor Station and pay annual emission fees and file related reports. The proposed consent decree would require Four Corners to pay a civil penalty of $50,000, implement an enhanced leak detection and repair program at the Ignacio GP using optical gas imaging, and obtain minor source permit coverage for Ute E under EPA's new Federal Implementation Plan for Indian country that was finalized on July 1, 2011 so that the facility is no longer a “Part 71 source.”

The Department of Justice will receive for a period of thirty (30) days from the date of this publication comments relating to the Consent Decree. Comments should be addressed to the Assistant Attorney General, Environment and Natural Resources Division, and either emailed to pubcomment-ees.enrd@usdoj.gov or mailed to P.O. Box 7611, U.S. Department of Justice, Washington, DC 20044-7611, and should refer to United States v. Williams Four Corners, LLC, D.J. Ref. No. 90-5-2-1-06938/4.

The consent decree and associated appendices may be examined on the following Department of Justice Web site: http://www.usdoj.gov/enrd/Consent_Decrees.html. A copy of the consent decree and the associated appendices may also be obtained by mail from the Consent Decree Library, P.O. Box 7611, U.S. Department of Justice, Washington, DC 20044-7611 or by faxing or emailing a request to Tonia Fleetwood (tonia.fleetwood@usdoj.gov), fax no. (202) 514-0097, phone confirmation number (202) 514-1547. In requesting a copy from the Consent Decree Library, please enclose a check in the amount of $7.50 (25 cents per page reproduction cost) payable to the U.S. Treasury or, if by email or fax, forward a check in that amount to the Consent Decree Library at the stated address. All requests for documents should refer to United States v. Williams Four Corners, LLC, Civil Action Number 1:11-cv-02846, and D.J. Ref. No. 90-5-2-1-06938/4.

Robert Brook,
Assistant Chief, Environmental Enforcement Section, Environment and Natural Resources Division.

[FR Doc. 2011-28851 Filed 11-7-11; 8:45 am]

BILLING CODE 4410-15-P